FEDERAL COMMUNICATIONS COMMISSION

Notice of Public Information Collection(s) Being Reviewed by the Federal Communications Commission

May 13, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 20, 2002. If you anticipate that you will be submitting comments, but find it difficult to do so within the period of time allowed by this notice, you should advise the contact listed below as soon as possible.

ADDRESSES: Direct all comments to Judith Boley Herman, Federal Communications Commission, Room 1-C804, 445 12th Street, SW, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0987.

Title: 911 Callback Capability: Non-initialized Phones.

Form No.: N/A.

Type of Review: Revision of a currently approved collection.

Respondents: Business or other for-profit, state, local or tribal government.

Number of Respondents: 3,137.

Estimated Time Per Response: .50-2 hours (average).

Frequency of Response: Third party disclosure requirement, and other one-time requirements.

Total Annual Burden: 4,481 hours.

Total Annual Cost: $661,125.

Needs and Uses: The Report and Order in CC Docket No. 94-102, FCC 02-120, released April 29, 2002, imposes requirements on wireless and wireline carriers and equipment manufacturers aimed at responding to the problem of the inability of emergency workers and the public to contact for further critical information a 911 caller may be using a non-initialized wireless telephone or a “911-only” phone, which do not have dial-able numbers. To advise the public and emergency workers of this limitation and to thus advise them using such phones in emergency situations to provide as much critical information, particularly regarding location, the Commission adopted labeling, software modification, and public education requirements.

Federal Communications Commission.
Marlene H. Dortch,
Secretary.

[FR Doc. 02-12669 Filed 5-20-02; 8:45 am]

BILLING CODE 6712-01-P